DEPARTMENT OF COMMERCE

National Oceanic and Atmospheric Administration

RIN 0648-XC613

General Advisory Committee and Scientific Advisory Subcommittee to the U.S. Section to the Inter-American Tropical Tuna Commission; Meeting Announcement

AGENCY: National Marine Fisheries Service (NMFS), National Oceanic and Atmospheric Administration (NOAA), Commerce.

ACTION: Notice of public meeting.

SUMMARY: NMFS announces a combined meeting of the Scientific Advisory Subcommittee (SAS) and the General Advisory Committee (GAC) to the U.S. Section to the Inter-American Tropical Tuna Commission (IATTC) on May 15, 2013. Meeting topics are provided under the SUPPLEMENTARY INFORMATION section of this notice.

DATES: The one-day combined meeting of the SAS and of the GAC will be held on May 15, 2013, from 8:30 a.m. to 5 p.m. PDT (or until business is concluded).

ADDRESSES: The meeting will be held at the NMFS Long Beach office: 501 West Ocean Blvd., Long Beach, CA 90802. Please notify Heidi Taylor prior to May 10, 2013, of your plans to attend either meeting, or interest in a teleconference option.

FOR FURTHER INFORMATION CONTACT: Heidi Taylor, Southwest Region, NMFS, at Heidi.Taylor@noaa.gov, or at (562) 980-4039.

SUPPLEMENTARY INFORMATION: In accordance with the Tuna Conventions Act, 16 U.S.C. 953 the Department of State has appointed a General Advisory Committee (GAC) and a Scientific Advisory Subcommittee (SAS) to the U.S. Section to the IATTC. The U.S. Section consists of four U.S. Commissioners to the IATTC and a representative of the Deputy Assistant Secretary of State for Oceans and Fisheries. The GAC and SAS support the U.S. Section to the IATTC in an advisory capacity; in particular, they provide advice on the development of U.S. policies and positions. NOAA Fisheries Southwest Regional Office administers the GAC and SAS in cooperation with the Department of State. The combined GAC and SAS meeting is open to the public and time provided for public comment will be at the discretion of the GAC and SAS chairmen.

The next annual meeting of the IATTC is scheduled from June 3 through June 14, 2013, in Veracruz, Mexico. For more information on the IATTC meeting, please visit the IATTC's Web site: http://www.iattc.org/HomeENG.htm.

Meeting Topics

The SAS meeting topics will include, but are not limited to, the following: (1) Relevant stock status updates, including yellowfin, bigeye, skipjack, and Pacific bluefin tunas; (2) updates on bycatch mitigation measures; (3) evaluation of the IATTC's recommended conservation measures, U.S. proposals, and proposals from other IATTC members; (4) input to the GAC; and (5) other issues that arise.

The GAC meeting topics will include, but are not limited to, the following: (1) Relevant stock status updates, including yellowfin, bigeye, skipjack, and Pacific bluefin tunas; (2) U.S. regulatory changes that could affect tuna fisheries in the eastern Pacific Ocean; (3) the status of U.S legislation to implement the Antigua Convention; (4) input from the SAS; (5) formulation of advice on issues that may arise at the upcoming 2013 IATTC meeting, including the IATTC's recommended conservation measures, potential U.S. proposals, and potential proposals from other IATTC members; and (6) other issues as they arise.

Special Accommodations

The meeting location is physically accessible to people with disabilities. Requests for sign language interpretation or other auxiliary aids should be directed to Heidi Taylor at (562) 980-4039 by May 10, 2013.

Authority: 16 U.S.C. 1801 et seq.

Dated: April 15, 2013.
Kara Meckley,
Acting Deputy Director, Office of Sustainable Fisheries, National Marine Fisheries Service.

[FR Doc. 2013-09251 Filed 4-18-13; 8:45 am]

BILLING CODE 3510-22-P